DEPARTMENT OF HEALTH AND HUMAN SERVICES

Office of the Secretary

[Document Identifier: HHS-OS-17378-30D]

Agency Information Collection Activities; Submission to OMB for Review and Approval; Public Comment Request

AGENCY: Office of the Secretary, HHS.

ACTION: Notice.

SUMMARY: In compliance with section 3507(a)(1)(D) of the Paperwork Reduction Act of 1995, the Office of the Secretary, Department of Health and Human Services, has submitted an Information Collection Request (ICR), described below, to the Office of Management and Budget (OMB) for review and approval. The ICR is for a new collection. Comments submitted during the first public review of this ICR will be provided to OMB. OMB will accept further comments from the public on this ICR during the review and approval period.

DATES: Comments on the ICR must be received on or before January 28, 2013.

ADDRESSES: Submit your comments to OIRA_submission@omb.eop.gov or via facsimile to (202) 395-5806.

FOR FURTHER INFORMATION CONTACT: Information Collection Clearance staff, Information.CollectionClearance@hhs.gov or (202) 690-6162.

SUPPLEMENTARY INFORMATION: When submitting comments or requesting information, please include the Information Collection Request Title and document identifier HHS-OS-17378-30D.

Information Collection Request Title: Evaluation of the National Partnership for Action to End Health Disparities.

Abstract: The Office of Minority Health (OMH) in the Office of the Assistant Secretary for Health (OASH), Office of the Secretary (OS) is requesting approval from the Office of Management and Budget (OMB) for new data collection activities for the Evaluation of the National Partnership for Action to End Health Disparities (NPA). The NPA was officially launched in April 2011 to mobilize a nationwide, comprehensive, community-driven, and sustained approach to combating health disparities and to move the nation toward achieving health equity. Using an approach that vests those at the front line with the responsibility of identifying and helping to shape core actions, new approaches and new partnerships are being established to help close the health gap in the United States. OMH proposes to conduct an evaluation of the NPA. The evaluation's goal is to determine the extent to which the NPA has contributed to the elimination of health disparities and attainment of health equity in our nation. The evaluation will accomplish this goal by (1) determining the degree to which a structure (e.g., partnerships, programmatic reach, communications, committees) to implement the NPA goals and strategies has been established; (2) Collecting, analyzing, and summarizing baseline data for core indicators of immediate and intermediate outcomes (e.g., changes in policy, procedures, and practices to diversify workforce, promote cultural competency, affect social determinants, build leadership, and increase public support for ending health disparities and achieving health equity); (3) Developing criteria for promising practices for ending health disparities and identifying such practices; (4) Beginning to monitor data on social determinants of health and health outcomes using secondary sources.

Need and Proposed Use of the Information: The goal of the NPA evaluation is to determine the extent to which the NPA has contributed to the elimination of health disparities and the attainment of health equity in our nation. The data to be collected will be used to inform the various stakeholders involved in implementation of the NPA and the National Stakeholder Strategy about progress, results, lessons learned, and necessary mid-course adjustments. The evaluation team will facilitate meetings to reflect and discuss the findings with OMH's leadership, staff, and the implementation and communications teams that support the NPA. The meetings will focus on the lessons learned and their implications on strategy improvement and implementation.

Information from the evaluation will also be shared with Congress through its inclusion in OMH's biennial report to Congress.

Likely Respondents

• Agency

○ Representatives from federal agencies that participate on the Federal Interagency Health Equity Team (FIHET)

○ Directors, coordinators, and officials from State Offices of Minority Health and State Departments of Health

• Organizational

○ Representatives from key NPA partner organizations

• Individual

○ Chairs and members of Regional Health Equity Councils (RHECs)

Burden Statement: Burden in this context means the time expended by persons to generate, maintain, retain, disclose or provide the information requested. This includes the time needed to review instructions, to develop, acquire, install and utilize technology and systems for the purpose of collecting, validating and verifying information, processing and maintaining information, and disclosing and providing information, to train personnel and to be able to respond to a collection of information, to search data sources, to complete and review the collection of information, and to transmit or otherwise disclose the information. The total annual burden hours estimated for this ICR are summarized in the table below.

Total Estimated Annualized Burden—Hours
Form Name | Number of Respondents | Number of Responses per Respondent | Average Burden per Response (in hours) | Total Burden Hours
FIHET member survey | 48 | 1 | 31.20 | 24.96
FIHET member interviews | 16 | 1 | 70.20 | 18.72
RHEC member survey | 350 | 1 | 40.20 | 234.50
RHEC co-chair interviews | 20 | 1 | 85.20 | 28.40
RHEC subcommittee chair group interviews | 50 | 1 | 90.00 | 75.00
Survey of key NPA partner organizations | 15 | 1 | 26.40 | 6.60
Survey of State Office of Minority Health Office directors or coordinators and State Department of Health officials | 110 | 1 | 28.80 | 52.80
Total | 609 | — | — | 440.98

Darius Taylor,
Deputy Information Collection Clearance Officer.

[FR Doc. 2012-31196 Filed 12-27-12; 8:45 am]

BILLING CODE 4150-29-P